DEPARTMENT OF JUSTICE

Notice of Lodging of Proposed Consent Decree Under the Comprehensive Environmental Response, Compensation, and Liability Act (CERCLA), the Clean Water Act (CWA), and the Oil Pollution Act (OPA)

On March 7, 2024, the Department of Justice lodged a proposed consent decree with the United States District Court for the Western District of Washington in the lawsuit entitled United States of America, State of Washington, Muckleshoot Indian Tribe, and Suquamish Indian Tribe of the Port Madison Reservation v. Crowley Marine Services, Inc., et al., Civil Action No. 2:24-cv-00307. Docket No. 3-1.

The proposed consent decree resolves claims brought by the United States on behalf of the National Oceanic and Atmospheric Administration and the Department of the Interior, the State of Washington, the Muckleshoot Indian Tribe, and the Suquamish Indian Tribe of the Port Madison Reservation (collectively, Trustees) against Crowley Marine Servies, Inc., 8th Avenue Terminals, Inc., and the Washington State Department of Transportation (collectively, Defendants) for natural resource damages caused by releases of hazardous substances and discharges of oil at or from facilities owned and/or operated by Defendants, located along and near the Lower Duwamish River, pursuant to section 107(a) of CERCLA, section 311 of the CWA, section 1002(b) of OPA, and the Washington Model Toxics Control Act (MTCA), RCW 70A.305. The settlement requires Defendants to purchase credits in a habitat restoration project constructed along the River and pay a total of $210,000 for natural resource damages to the Trustees. The settlement also requires Defendants to pay $64,325.63 to reimburse their equitable share of assessment costs incurred by the Trustees. Defendants will receive covenants not to sue under the statutes listed in the complaint and consent decree for specified natural resource damages.

The publication of this notice opens a period for public comment on the proposed consent decree. Comments should be addressed to the Assistant Attorney General, Environment and Natural Resources Division, and should refer to United States et al. v. Crowley Marine Services., et al., D.J. Ref. No. 90-11-3-07227/13. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

Kathryn C. Macdonald,
Assistant Section Chief, Environmental Enforcement Section, Environment and Natural Resources Division.

[FR Doc. 2024-05358 Filed 3-13-24; 8:45 am]

BILLING CODE 4410-15-P